DEPARTMENT OF LABOR

Occupational Safety and Health Administration

[Docket No. OSHA-2022-0011]

Maritime Advisory Committee on Occupational Safety and Health (MACOSH): Notice of Meeting

AGENCY: Occupational Safety and Health Administration (OSHA), Labor.

ACTION: Notice of MACOSH meeting.

SUMMARY: The Maritime Advisory Committee on Occupational Safety and Health (MACOSH) will meet on November 14, 2023, in a hybrid format. Committee members will meet in person; the public is invited to participate either in person or virtually via WebEx.

DATES:

MACOSH full Committee meeting: MACOSH will meet from 9:00 a.m. to 12:00 p.m., ET, Tuesday, November 14, 2023.

MACOSH Workgroup meetings: The MACOSH Shipyard and Longshoring Workgroups will meet from 1:00 p.m. to 5:00 p.m., ET, Tuesday, November 14, 2023.

ADDRESSES:

Submission of comments and requests to speak: Comments and requests to speak at the MACOSH meeting, including attachments, must be submitted electronically at http://www.regulations.gov, the eRulemaking Portal by October 31, 2023. Comments must be identified by the docket number for this Federal Register notice (Docket No. OSHA-2022-0011). Follow the online instructions for submitting comments.

Registration: All persons wishing to attend the meeting in-person or virtually must register via the registration link on the MACOSH web page at https://www.osha.gov/advisorycommittee/macosh. Upon registration, in-person attendees will receive directions for participation and virtual attendees will receive a WebEx link for remote access to the meeting. At this time, OSHA will be limiting in-person attendance to 25 members of the public, to be determined based in the order requests are made via the registration link.

Requests for special accommodations: Submit requests for special accommodations, including translation services, for this MACOSH meeting by October 31, 2023, to Ms. Carla Marcellus, Directorate of Standards and Guidance, OSHA, U.S. Department of Labor; telephone: (202) 693-1865; email: marcellus.carla.dol.gov.

Instructions: All submissions must include the agency name and the OSHA docket number for this Federal Register notice (Docket No. OSHA-2022-0011). OSHA will place comments, including personal information, in the public docket, which may be available online. Therefore, OSHA cautions interested parties about submitting personal information such as Social Security numbers and birthdates.

Docket: To read or download documents in the public docket for this MACOSH meeting, go to www.regulations.gov. All documents in the public docket are listed in the index; however, some documents (e.g., copyrighted material) are not publicly available to read or download through www.regulations.gov. All submissions, including copyrighted material, are available for inspection through the OSHA Docket Office. Contact the OSHA Docket Office at (202) 693-2350 (TTY (877) 889-5627) for assistance in locating docket submissions.

FOR FURTHER INFORMATION CONTACT:

For press inquiries: Mr. Frank Meilinger, Director, OSHA Office of Communications, U.S. Department of Labor; telephone: (202) 693-1999; email: meilinger.francis2@dol.gov.

For general information about MACOSH: Ms. Amy Wangdahl, Director, Office of Maritime and Agriculture, Directorate of Standards and Guidance, OSHA, U.S. Department of Labor; telephone: (202) 693-2066; email: wangdahl.amy@dol.gov.

Telecommunication requirements: For additional information about the telecommunication requirements for the meeting, please contact Ms. Carla Marcellus, Directorate of Standards and Guidance, OSHA, U.S. Department of Labor; telephone: (202) 693-1865; email: marcellus.carla@dol.gov.

For copies of this Federal Register Notice: Electronic copies of this Federal Register notice are available at www.regulations.gov. This notice, as well as news releases and other relevant information, are also available at OSHA's web page www.osha.gov.

SUPPLEMENTARY INFORMATION:

I. Meeting Information

MACOSH Meeting

MACOSH will meet from 9:00 a.m. to 12:00 p.m., ET, Tuesday, November 14, 2023. Public attendance will be in a hybrid format, either in person or virtually via WebEx. Meeting information will be posted in the Docket (Docket No. OSHA-2022-0011) and on the MACOSH web page, https://www.osha.gov/advisorycommittee/macosh, prior to the meeting.

The tentative agenda for the full Committee meeting will include reports from the Shipyard and Longshoring workgroups, presentations on maritime fall protection and on OSHA's social media and outreach platforms from the Office of Communication, and updates from the Directorate of Standards and Guidance (DSG), DSG's Office of Maritime and Agriculture, and on the Heat Rulemaking initiative.

MACOSH Workgroup Meetings

The MACOSH Shipyard and Longshoring Workgroups will meet from 1:00 p.m. to 5:00 p.m., ET, Tuesday, November 14, 2023.

Authority and Signature

James S. Frederick, Deputy Assistant Secretary of Labor for Occupational Safety and Health, authorized the preparation of this notice under the authority granted by 29 U.S.C. 655(b)(1) and 656(d), 5 U.S.C. 10, Secretary of Labor's Order No. 8-2020 (85 FR 58393), and 29 CFR part 1912.

Signed at Washington, DC, on September 28, 2023.
James S. Frederick,
Deputy Assistant Secretary for Occupational Safety and Health.

[FR Doc. 2023-21840 Filed 10-2-23; 8:45 am]

BILLING CODE 4510-26-P